FEDERAL COMMUNICATIONS COMMISSION

47 CFR Parts 2, 15, 90, and 95

[ET Docket No. 19-138; Report No. 3176; FR ID 37402]

Petition for Reconsideration of Action in Rulemaking Proceeding

AGENCY: Federal Communications Commission.

ACTION: Petition for Reconsideration; correction.

SUMMARY: The Federal Communications Commission (Commission) published a document in the Federal Register of July 7, 2021, regarding three Petitions for Reconsideration (Petitions) filed in the Commission's rulemaking proceeding. The document did not address the withdrawal of one of those petitions. This document corrects that error.

DATES: Oppositions to the Petitions must be filed on or before July 22, 2021. Replies to an opposition must be filed on or before August 2, 2021.

ADDRESSES: Federal Communications Commission, 45 L Street NE, Washington, DC 20554.

FOR FURTHER INFORMATION CONTACT: Jamie Coleman, Office of Engineering and Technology, (202) 418-2705 or Jamie.Coleman@fcc.gov.

SUPPLEMENTARY INFORMATION: In FR Doc. 21-14494, appearing on page 35700 in the Federal Register on July 7, 2021, the following correction is made:

On page 35700, in the first column, the summary is corrected to read “SUMMARY: Petitions for Reconsideration (Petitions) have been filed in the Commission's rulemaking proceeding by Sean T. Conway, on behalf of 5G Automotive Association, and Hilary Cain, on behalf of The Alliance for Automotive Innovation. A third Petition for Reconsideration, filed by Julian Gehman on behalf of The Amateur Radio Emergency Data Network, was withdrawn on June 21, 2021.”

Dated: July 7, 2021.
Federal Communications Commission.
Marlene Dortch,
Secretary.

[FR Doc. 2021-15076 Filed 7-16-21; 8:45 am]

BILLING CODE 6712-01-P